DEPARTMENT OF COMMERCE

National Oceanic and Atmospheric Administration

[RTID 0648-XE605]

North Pacific Fishery Management Council; Public Meetings

AGENCY: National Marine Fisheries Service (NMFS), National Oceanic and Atmospheric Administration (NOAA), Commerce.

ACTION: Notice of hybrid conference meetings of the North Pacific Fishery Management Council and its advisory committees.

SUMMARY: The North Pacific Fishery Management Council (Council) and its advisory committees will meet February 3, 2025 through February 11, 2025.

DATES: The Council's Scientific and Statistical Committee (SSC) will begin at 8 a.m. on Monday, February 3, 2025, and continue through Wednesday, February 5, 2025. The Council's Advisory Panel (AP) will begin at 8 a.m. on Tuesday, February 4, 2025, and continue through Saturday, February 8, 2025. The Council will begin at 8 a.m. on Thursday, February 6, 2025, and continue through Tuesday, February 11, 2025. All meetings scheduled from 8 a.m. to 5 p.m., but depending on volume of public testimony, meetings may go late. All times listed are Alaska Time.

ADDRESSES: The meetings will be a hybrid conference. The in-person component of the meeting will be held at the Egan Center, 555 W 5th Ave., Anchorage, AK 99501, or join the meeting online through the links at https://www.npfmc.org/current-or-next-council-meeting/.

Council address: North Pacific Fishery Management Council, 1007 W 3rd Ave., Suite 400, Anchorage, AK 99501-2252; telephone: (907) 271-2809. Instructions for attending the meeting via web conference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, February 3, 2025 Through Wednesday, February 5, 2025

The SSC agenda will include the following issues:

1. Administrative Issues

2. Cook Inlet salmon harvest specifications—review report

3. Salmon bycatch—Scientific and methodological second review Chum salmon bycatch initial review analysis

The agenda is subject to change, and the latest version will be posted at https://meetings.npfmc.org/Meeting/Details/3070 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, February 4, 2025 Through Saturday, February 8, 2025

The Advisory Panel agenda will include the following issues:

1. Administrative Issues

2. Salmon bycatch—second review Chum salmon bycatch initial review analysis

Thursday, February 6, 2025 Through Tuesday, February 11, 2025

The Council agenda will include the following issues. The Council may take appropriate action on any of the issues identified.

1. Administrative Issues

2. Cook Inlet salmon harvest specifications—review report

3. Salmon bycatch—second review Chum salmon bycatch initial review analysis

The agenda is subject to change, and the latest version will be posted at https://meetings.npfmc.org/Meeting/Details/3071 prior to the meeting, along with meeting materials.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/current-or-next-council-meeting/.

Public Comment

Public comment letters will be accepted and should be submitted electronically through the links at https://www.npfmc.org/current-or-next-council-meeting/. The Council strongly encourages written public comment for this meeting, to avoid any potential for technical difficulties to compromise oral testimony. The written comment period is open from December 20, 2024, and closes at 12 p.m. Alaska Time on Friday, January 31, 2025.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: January 10, 2025.
Rey Israel Marquez,
Acting Deputy Director, Office of Sustainable Fisheries, National Marine Fisheries Service.

[FR Doc. 2025-00758 Filed 1-14-25; 8:45 am]

BILLING CODE 3510-22-P